DEPARTMENT OF TRANSPORTATION

Federal Motor Carrier Safety Administration

49 CFR Parts 385, 390 and 395

[Docket No. FMCSA-2004-19608; Formerly FMCSA-1997-2350]

RIN 2126-AA90

Hours of Service of Drivers

AGENCY: Federal Motor Carrier Safety Administration (FMCSA), DOT.

ACTION: Notice of availability in public docket; addendum to the regulatory impact analysis for the hours of service rulemaking; request for comments.

SUMMARY: On January 24, 2005, the Federal Motor Carrier Safety Administration (FMCSA) published in the Federal Register (70 FR 3339) a Notice of Proposed Rulemaking (NPRM) regarding hours of service of commercial motor vehicle drivers. In that NPRM, FMCSA announced it is reviewing and reconsidering the regulations on hours of service of drivers published on April 28, 2003, and amended on September 30, 2003. In the docket to this January 24, 2005, NPRM, FMCSA re-filed the same Regulatory Impact Analysis (RIA), or comprehensive analysis of economic benefits and costs of the proposed rule, as was filed in the docket for the April 2003 final rule. However, effective January 1, 2005, the Office of Management and Budget (OMB) imposed new analytical requirements on Federal agencies regarding the preparation of RIAs for economically significant rulemakings. These new requirements include an uncertainty analysis, or an analysis of the “degree of uncertainty” associated with key variables used in the analysis (i.e., the percent of all truck-related crashes where commercial driver fatigue is a factor) and how significantly that uncertainty affects the benefit and cost estimates derived. A primary value of uncertainty analysis is its ability to highlight those key variables where additional data collection (to reduce uncertainty) would most benefit the decision making process.

Additionally, OMB now requires a cost-effectiveness analysis for those rulemakings where improved public health and safety are the primary benefits. The cost effectiveness of a regulatory action is typically measured as a ratio of the change in costs occasioned by the action compared to its positive results (i.e., lives saved). A primary value of cost-effectiveness analysis is its ability to identify regulatory options that achieve the most effective use of the resources available without requiring monetization of all of the relevant benefits or costs. In light of these new requirements, FMCSA has prepared an addendum to the original RIA containing the two supplemental analyses and has made it available in Docket FMCSA-2004-19608.

DATES: Comments must be received by March 10, 2005, which is the end of the comment period announced January 24, 2005, in the NPRM for hours of service (70 FR 3339).

ADDRESSES: You may submit comments identified by DOT DMS Docket Number FMCSA-2004-19608 by any of the following methods. Identify your comments as responding to “RIA ADDENDUM.” Do not submit the same comments by more than one method. However, in order to allow effective public participation in this rulemaking before the statutory deadline, we encourage use of the Web site that is listed first below. It will provide the most efficient and timely method of receiving and processing your comments.

• Web site: http://dms.dot.gov: Follow the instructions for submitting comments on the DOT electronic site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number (FMCSA-2004-19608) or Regulatory Identification Number (RIN) for this rulemaking (RIN-2126-AA90). Note that all comments received will be posted without change to http://dms.dot.gov, including any personal information provided. Please see the Privacy Act heading for further information.

Docket: For access to the docket to read background documents or comments received, go to http://dms.dot.gov at any time or to Room PL-401 on the plaza level of the Nassif Building, 400 Seventh Street, SW., Washington, DC, between 9 a.m. and 5 p.m., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477), or you may visit http://dms.dot.gov.

Comments received after the comment closing date will be included in the docket and we will consider late comments to the extent practicable. FMCSA may, however, issue a final rule at any time after the close of the comment period.

FOR FURTHER INFORMATION CONTACT: Mr. Tom Yager, Hours-of-Service Team, Federal Motor Carrier Safety Administration, 202-366-1425.

SUPPLEMENTARY INFORMATION:

Background

On January 24, 2005, FMCSA published in the Federal Register (70 FR 3339) an NPRM regarding hours of service of commercial motor vehicle drivers. In that NPRM, FMCSA announced that it is reviewing and reconsidering the regulations on hours of service of drivers published on April 28, 2003 (68 FR 22456), and amended on September 30, 2003 (68 FR 56208). These regulations were vacated by the U.S. Court of Appeals for the District of Columbia Circuit on July 16, 2004. Public Citizen et al. v. Federal Motor Carrier Safety Administration, 374 F.3d 1209 (D.C. Cir. 2004). Congress subsequently provided that the 2003 regulations will remain in effect until the effective date of a new final rule addressing the issues raised by the court, or September 30, 2005, whichever occurs first (Section 7(f) of the Surface Transportation Extension Act of 2004, Part V). FMCSA is reconsidering the 2003 regulations to determine what changes may be necessary to be consistent with the holdings and dicta of the Public Citizen decision. To facilitate discussion, the agency is putting forward the 2003 rule as the “proposal” on which public comments are requested.

Accordingly, in the docket of the NPRM published on January 24, 2005, FMCSA has included a Regulatory Impact Analysis (RIA), or comprehensive analysis of economic benefits and costs of the proposed rule (Docket Number FMCSA-1997-2350-23302, refiled as FMCSA-2004-19608-80), which is the same RIA filed in the docket of the April 2003 hours-of-service rulemaking. However, effective January 1, 2005, the Office of Management and Budget (OMB) imposed new analytical requirements on Federal agencies in the preparation of RIAs for economically significant rulemakings (OMB Circular No. A-4, Guidelines for the Conduct of Regulatory Analysis). These new requirements include: (1) a quantitative analysis of the degree of uncertainty associated with key inputs to the calculation of benefits and costs (henceforth referred to as “uncertainty analysis”), and (2) a cost-effectiveness analysis (CEA) for major rulemakings for which primary benefits are improved public health and safety. To meet these new requirements, FMCSA has prepared an addendum to the original RIA containing the two supplemental analyses and has made it available in Docket FMCSA-2004-19608. For instructions to access the docket, see the “Docket” heading, above.

Uncertainty Analysis

As stated in OMB Circular A-4, “The precise consequences (benefits and costs) of regulatory options are not always known with certainty,” and the uncertainty associated with key inputs to a regulatory impact analysis (i.e., the percent of all truck-related crashes where commercial driver fatigue is a factor) has the potential to affect the accuracy of the benefit and cost estimates derived. However, while the precise consequences of a regulatory option may not be known with certainty, in many cases the probability of their occurrence can be developed. By examining the uncertainty of several key variables used in the analysis (by way of evaluating the probability of their occurrence), analysts and decision makers can become better informed as to which variables most significantly affect the benefit and cost results and where additional information or data collection (to reduce uncertainty) would be most beneficial.

As such, a primary benefit of an uncertainty analysis is that it highlights which variables in the analysis are the most important, and where additional information for given variables would most contribute to the accuracy of results. In the present analysis, FMCSA developed uncertainty distributions for 20 key variables. Examples include (1) the percent of long-haul drivers with “intense” schedules (or those drivers in long-haul operations who are fully utilizing the daily and weekly driving limits on a consistent basis), (2) the percentage of hours worked by commercial drivers in excess of allowed hours, and (3) the percent of all truck-related crashes where commercial driver fatigue was determined to be a factor. A complete list of the variables examined is included in the Addendum filed in the docket. It should be noted here that the original RIA examined the economic impacts of the 2003 final rule from two sets of baseline assumptions: the first, termed the “Current Rules/100%” option, assumed full compliance by commercial drivers with the pre-2003 HOS rules when estimating the economic impacts of the regulatory change, while the second, termed the “Status Quo” option, assumed less than full compliance with the pre-2003 rules prior to estimating economic impacts. However, the uncertainty analysis conducted here was limited only to the “Status Quo” (or less than full compliance) baseline assumption, since only under this set of assumptions did the annual costs of the rulemaking rise above the dollar threshold (i.e., greater than $1 billion in annual costs) outlined in OMB Circular A-4 that requires such an analysis. As such, when reporting on the range of possible cost, benefit, and net cost outcomes of this uncertainty analysis, all results are measured relative to the point estimates derived from the original RIA under the “Status Quo” baseline assumption.

Regarding total costs of the NPRM, the uncertainty analysis revealed that there was an 80 percent chance that total annual costs of this rulemaking would fall between $1 and $1.5 billion. Under the “Status Quo” baseline, the original RIA derived a point estimate of total annual costs equal to $1.3 billion. As such, the distribution of cost results derived from the uncertainty analysis closely tracked the point estimate of costs derived under the original RIA. Regarding total annual benefits of the NPRM, the uncertainty analysis revealed that there is about an 80 percent chance that annual benefits would fall between $0.5 and $0.8 billion. Under the “Status Quo” baseline, the original RIA had derived a point estimate of total annual benefits equal to $0.7 billion. Regarding net costs, the uncertainty analysis indicated about an 80 percent chance that net costs of the NPRM would fall between $0.3 and $0.8 billion, and about a five percent chance that net benefits would accrue from implementation of the proposed rule. Under the “Status Quo” baseline, the original RIA had derived a point estimate of total net annual costs equal to $0.6 billion.

Cost Effectiveness Analysis

The cost effectiveness of a regulatory action is typically measured as a ratio of the change in costs occasioned by the action compared to its positive results (i.e., lives saved). A primary value of cost-effectiveness analysis is its ability to identify regulatory options that achieve the most effective use of the resources available without requiring monetization of all of the relevant benefits or costs. Regarding the results of the cost effectiveness analysis, the implementation of the NPRM was estimated to result in a total annual cost of $10.8 million for each fatality prevented, and $0.4 million for each injury prevented. It must be noted here that the CEA results presented here will tend to exaggerate the costs of preventing injuries and fatalities, because implementation of the NPRM would not just prevent injuries and fatalities, but would also prevent truck-related crashes limited to property-damage only. Additionally, the rule is expected to result in time savings as a result of the prevention of truck-related crashes. Full details regarding the results of these analyses may be found in Docket FMCSA-2004-19608.

Issued on: February 1, 2005.
Annette M. Sandberg,
Administrator.

[FR Doc. 05-2185 Filed 2-3-05; 8:45 am]

BILLING CODE 4910-EX-P